DEPARTMENT OF COMMERCE

International Trade Administration

[A-520-803]

Polyethylene Terephthalate Film, Sheet, and Strip From the United Arab Emirates: Final Results of Antidumping Duty Administrative Review

AGENCY: Import Administration, International Trade Administration, Department of Commerce.

SUMMARY: On December 17, 2010, the Department of Commerce (the Department) published the preliminary results of administrative review of the antidumping duty order on polyethylene terephthalate film (PET Film) from the United Arab Emirates. This review covers two producers/exporters of subject merchandise: JBF RAK LLC (JBF) and FLEX Middle East FZE (FLEX). Based on the results of our analysis of the comments received, we have made changes to the preliminary results, which are discussed below. For the final dumping margins, see the “Final Results of Review” section below.

DATES: Effective Date: April 25, 2011.

FOR FURTHER INFORMATION CONTACT: Andrew Huston or Jun Jack Zhao, AD/CVD Operations, Office 6, Import Administration, International Trade Administration, U.S. Department of Commerce, 14th Street and Constitution Avenue, NW., Washington, DC 20230; telephone: (202) 428-4261 or (202) 482-1396, respectively.

SUPPLEMENTARY INFORMATION:

Background

Since the preliminary results, the following events have taken place. See Polyethylene Terephthalate Film, Sheet, and Strip From the United Arab Emirates: Preliminary Results of Antidumping Duty Administrative Review, 75 FR 78968 (December 17, 2010) (Preliminary Results). A sales verification of JBF was conducted from December 12, 2010, through December 16, 2010. See Memorandum to the File, “Verification of the Sales Response of JBF RAK LLC in the Antidumping Review of Polyethylene Terephthalate Film Sheet and Strip (PET Film) from the United Arab Emirates” (February 17, 2011).¹ JBF submitted a timely case brief on February 28, 2011. DuPont Teijin Films, Mitsubishi Polyester Film, Inc., SKC, Inc., and Toray Plastics (America), Inc. filed a timely rebuttal brief on March 8, 2011. We did not receive a case brief from FLEX.

¹ Public versions of all memoranda referenced in this notice are on file in the Department's Central Records Unit (CRU) in Room 7046 of the main Department of Commerce building.

Period of Review

The period of review is November 6, 2008, through October 31, 2009.

Scope of the Order

The products covered by the order are all gauges of raw, pre-treated, or primed polyethylene terephthalate film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET Film is classifiable under subheading 3920.62.00.90 of the Harmonized Tariff Schedule of the United States (HTSUS). While HTSUS subheadings are provided for convenience and customs purposes, our written description of the scope of the order is dispositive.

Analysis of Comments Received

The issues raised in the case and rebuttal briefs by parties in this administrative review are addressed in the memorandum from Christian Marsh, Deputy Assistant Secretary for Antidumping and Countervailing Duty Operations, to Ronald K. Lorentzen, Deputy Assistant Secretary for Import Administration, “Antidumping Duty Administrative Review of Polyethylene Terephthalate Film, Sheet, and Strip from the United Arab Emirates: Issues and Decision Memorandum for the Final Results” (Decision Memorandum), dated concurrently with, and herby adopted by this notice. A list of the issues addressed in the Decision Memorandum is appended to this notice. The Decision Memorandum is on file in the Department's CRU, and can be accessed directly on the Internet at http://ia.ita.doc.gov/frn. The paper copy and electronic version of the Decision Memorandum are identical in content.

Changes Since the Preliminary Results

Based on our analysis of the comments received, we have made adjustments to our margin calculations for JBF. Specifically, we revised coding in our comparison market SAS program to correct an error that resulted in different variable cost of manufacturing figures being used for identical U.S. and home market products.

Final Results of Review

As a result of our review, we determine that the following weighted-average margins exist for the period of November 6, 2008, through October 31, 2009:

Manufacturer/exporter | Weighted- average margin (percent)
FLEX Middle East FZE | 3.16
JBF RAK LLC | 4.88

Assessment Rates

The Department shall determine, and U.S. Customs and Border Protection (CBP) shall assess, antidumping duties on all appropriate entries. We will instruct CBP to liquidate entries of merchandise produced and/or exported by Flex and JBF. For assessment purposes, where the respondents reported the entered value for their sales, we calculated importer-specific (or customer-specific) ad valorem assessment rates based on the ratio of the total amount of the dumping duties calculated for the examined sales to the total entered value of those same sales. See 19 CFR 351.212(b). However, where the respondents did not report the entered value for their sales, we will calculate importer-specific (or customer-specific) per-unit assessment rates. The Department intends to issue appropriate assessment instructions directly to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by Flex or JBF for which the reviewed companies did not know their merchandise was destined for the United States. In such instances, we will instruct CBP to liquidate non-reviewed entries at the all-others rate of 4.80 percent from the investigation if there is no rate for the intermediate company(ies) involved in the transaction. See Polyethylene Terephthalate Film, Sheet, and Strip from the United Arab Emirates: Final Determination of Sales at Less Than Fair Value, 73 FR 55036 (September 24, 2008) (Investigation Final Determination).

Cash Deposit Requirements

The following deposit requirements will be effective upon publication of the final results of this administrative review for all shipments of subject merchandise entered, or withdrawn from warehouse, for consumption on or after the publication date of these final results, as provided by section 751(a)(2)(C) of the Tariff Act of 1930, as amended (the Act): (1) For the companies covered by this review, the cash deposit rate will be the rates listed above in the section “Final Results of Review;” (2) for merchandise exported by producers or exporters not covered in this review but covered in a previous segment of this proceeding, the cash deposit rate will continue to be the company-specific rate published in the most recent final results in which that producer or exporter participated; (3) if the exporter is not a firm covered in this review or in any previous segment of this proceeding, but the producer is, the cash deposit rate will be that established for the producer of the merchandise in these final results of review or in the most recent final results in which that producer participated; and, (4) if neither the exporter nor the producer is a firm covered in this review or in any previous segment of this proceeding, the cash deposit rate will be 4.80 percent, the all-others rate established in the less than fair value investigation. See Investigation Final Determination. These deposit requirements shall remain in effect until further notice.

Notification Regarding Administrative Protective Orders

This notice is the only reminder to parties subject to the administrative protective order (APO) of their responsibility concerning the return or destruction of proprietary information disclosed under the APO in accordance with 19 CFR 351.305(a)(3). Timely written notification of the return or destruction of APO materials or conversion to judicial protective order is hereby requested. Failure to comply with the regulations and the terms of an APO is a sanctionable violation.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and in the subsequent assessment of double antidumping duties.

We are issuing and publishing these final results and this notice in accordance with sections 751(a)(1) and 777(i)(1) of the Act.

Dated: April 18, 2011.
Ronald K. Lorentzen,
Deputy Assistant Secretary for Import Administration.

Appendix

Issues in the Decision Memorandum

Comment 1: Sample Transactions

Comment 2: Values Reported for Average Cost of Manufacturing

Comment 3: Transactions Outside the Ordinary Course of Trade

Comment 4: Matching Criteria

Comment 5: Zeroing

[FR Doc. 2011-9967 Filed 4-22-11; 8:45 am]

BILLING CODE 3510-DS-P